DEPARTMENT OF COMMERCE

National Oceanic and Atmospheric Administration

[I.D. 013006B]

International Whaling Commission; 58th Annual Meeting; Nominations

AGENCY: National Marine Fisheries Service (NMFS), National Oceanic and Atmospheric Administration (NOAA), Commerce.

ACTION: Extension of request for nominations.

SUMMARY: This notice is to extend the call for nominees for the U.S. Delegation to the June 2006 International Whaling Commission (IWC) annual meeting. A request for nominations was previously published in the Federal Register on February 13, 2006.

DATES: All written nominations for the U.S. Delegation to the IWC annual meeting must be received by April 7, 2006.

ADDRESSES: All nominations for the U.S. Delegation to the IWC annual meeting should be addressed to Bill Hogarth, U.S. Commissioner to the IWC, and sent via post to: Cheri McCarty, National Marine Fisheries Service, Office of International Affairs, 1315 East West Highway, SSMC3 Room 12603, Silver Spring, MD 20910. Prospective Congressional advisors to the delegation should contact the Department of State directly.

FOR FURTHER INFORMATION CONTACT: Cheri McCarty, 301-713-9090, ext. 183.

SUPPLEMENTARY INFORMATION: The Secretary of Commerce is charged with the responsibility of discharging the obligations of the United States under the International Convention for the Regulation of Whaling, 1946. The U.S. Commissioner has primary responsibility for the preparation and negotiation of U.S. positions on international issues concerning whaling and for all matters involving the IWC. He is staffed by the Department of Commerce and assisted by the Department of State, the Department of the Interior, the Marine Mammal Commission, and by other agencies. The non-federal representative(s) selected as a result of this nomination process is(are) responsible for providing input and recommendations to the U.S. IWC Commissioner representing the positions of non-governmental organizations. Generally, only one non-governmental position is selected for the U.S. Delegation.

The IWC is hosting its 58th annual meeting from June 16-20, 2006, in St. Kitts & Nevis.

Dated: March 6, 2006.
William T. Hogarth,
Assistant Administrator for Fisheries, National Marine Fisheries Service.

[FR Doc. 06-2253 Filed 3-6-06; 3:18 pm]

BILLING CODE 3510-22-S